DEPARTMENT OF THE TREASURY

Office of Foreign Assets Control

31 CFR Part 587

Publication of Russian Harmful Foreign Activities Sanctions Regulations Web General License 129

AGENCY: Office of Foreign Assets Control, Treasury.

ACTION: Publication of a web general license.

SUMMARY: The Department of the Treasury's Office of Foreign Assets Control (OFAC) is publishing a general license (GL) issued pursuant to the Russian Harmful Foreign Activities Sanctions Regulations: GL 129, which was previously made available on OFAC's website.

DATES: GL 129 was issued on October 29, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On October 29, 2025, OFAC issued GL 129 to authorize certain transactions otherwise prohibited by the Russian Harmful Foreign Activities Sanctions Regulations, 31 CFR part 587. This GL was made available on OFAC's website (https://ofac.treasury.gov) when it was issued. The text of this GL is provided below.

OFFICE OF FOREIGN ASSETS CONTROL

Russian Harmful Foreign Activities Sanctions Regulations

31 CFR Part 587

GENERAL LICENSE NO. 129

Authorizing Transactions Involving Rosneft Deutschland GmbH and RN Refining & Marketing GmbH

(a) Except as provided in paragraph (b) of this general license, all transactions prohibited by the Russian Harmful Foreign Activities Sanctions Regulations, 31 CFR part 587 (RuHSR), involving Rosneft Deutschland GmbH (RN Germany) or RN Refining & Marketing GmbH (RN Refining & Marketing), or any entity in which RN Germany or RN Refining & Marketing own, directly or indirectly, individually or in the aggregate, a 50 percent or greater interest, are authorized through 12:01 a.m. eastern daylight time, April 29, 2026.

(b) This general license does not authorize any transactions otherwise prohibited by the RuHSR, including transactions involving any person blocked pursuant to the RuHSR, including any other blocked affiliates of Rosneft Oil Company, other than the blocked persons described in paragraph (a) of this general license, unless separately authorized.

Bradley T. Smith,

Director, Office of Foreign Assets Control.

Dated: October 29, 2025.

Bradley T. Smith,
Director, Office of Foreign Assets Control.

[FR Doc. 2026-00947 Filed 1-16-26; 8:45 am]

BILLING CODE 4810-AL-P